DEPARTMENT OF COMMERCE

National Oceanic and Atmospheric Administration

Public Meeting of the National Sea Grant Advisory Board

AGENCY: Office of Oceanic and Atmospheric Research (OAR), National Oceanic and Atmospheric Administration (NOAA), Department of Commerce (DOC).

ACTION: Notice of public meeting.

SUMMARY: This notice sets forth the schedule and proposed agenda of a forthcoming meeting of the National Sea Grant Advisory Board (Board), a Federal Advisory Committee. Board members will discuss and provide advice on the National Sea Grant College Program (Sea Grant) in the areas of program evaluation, strategic planning, education and extension, science and technology programs, and other matters as described in the agenda found on the Sea Grant website. For more information on this Federal Advisory Committee please visit the Federal Advisory Committee database: https://www.facadatabase.gov/FACA/FACAPublicPage.

DATES: The announced meeting is scheduled for Tuesday February 24, 2026 from 3:00 p.m.-6:00 p.m. (EST), Wednesday February 25, 2026 from 3:00 p.m.-6:00 p.m. (EST) and Thursday February 26, 2026 from 3:00 p.m.-6:00 p.m. (EST).

ADDRESSES: The meeting will be held virtually. Registration is not required. For more information about the virtual meeting see below in the “For Further Information Contact” section.

FOR FURTHER INFORMATION CONTACT: For any questions concerning the meeting, please contact Ms. Susan Holmes, National Sea Grant College Program. Email: oar.sg-feedback@noaa.gov, Phone Number (301) 734-1077.

SUPPLEMENTARY INFORMATION:

Status: The meeting will be open to public participation with a public comment period on Tuesday, February 24, 2026 at 3:10 p.m. (EST). The Board expects that public statements presented at its meetings will not be repetitive of previously submitted verbal or written statements. In general, each individual or group making a verbal presentation will be limited to a total time of three (3) minutes. Written comments should be received by Ms. Susan Holmes by Tuesday, February 17, 2026 to provide sufficient time for Board review. Written comments received after the deadline will be distributed to the Board, but may not be reviewed prior to the meeting date.

Special Accommodations: The Board meeting is virtually accessible to people with disabilities. Requests for sign language interpretation or other auxiliary aids should be directed to Ms. Susan Holmes by Tuesday, February 17, 2026.

The Board, which consists of a balanced representation from academia, industry, state government and citizens groups, was established in 1976 by Section 209 of the Sea Grant Improvement Act (Public Law 94-461, 33 U.S.C. 1128). The Board advises the Secretary of Commerce and the Director of the National Sea Grant College Program with respect to operations under the Act, and such other matters as the Secretary refers to them for review and advice.

Matters To Be Considered: Board members will discuss and vote on the selection of new subcommittee membership, discuss the State of Sea Grant interim report to Congress, discuss updates from Sea Grant Network Groups, and other topics that need Board feedback: https://seagrant.noaa.gov/About/Advisory-Board.

Nikola Garber,
Deputy Director, National Sea Grant College Program Office of Oceanic and Atmospheric Research, National Oceanic and Atmospheric Administration.

[FR Doc. 2026-02103 Filed 2-2-26; 8:45 am]

BILLING CODE 3510-KA-P